DEPARTMENT OF ENERGY

Federal Energy Regulatory Commission

[Docket No. PF13-14-000]

Golden Pass Products, LLC, Golden Pass Pipeline, LLC; Notice of Intent To Prepare an Environmental Assessment for the Planned Golden Pass LNG Export Project and Golden Pass Export Pipeline Project, Request for Comments on Environmental Issues, and Notice of Public Scoping Meeting

The staff of the Federal Energy Regulatory Commission (FERC or Commission) will prepare an environmental assessment (EA) that will discuss the environmental impacts that could result from the construction and operation of the Golden Pass Liquefied Natural Gas (LNG) Project and Golden Pass Export Pipeline Project, collectively called the Golden Pass LNG Export Project (Project) in Texas and Louisiana. The Project has been proposed by Golden Pass Products, LLC and Golden Pass Pipeline, LLC, collectively called Golden Pass. The EA will be used by the Commission in its decision-making process to determine whether construction and operation of the Project is in the public convenience and necessity.

This notice announces the opening of the scoping process the Commission will use to gather input from the public and interested agencies on the Project. Your input during the scoping process will help the Commission staff determine what issues need to be evaluated in the EA. The Commission staff will also use the scoping process to help determine whether preparation of an environmental impact statement is more appropriate for this Project based upon the potential significance of the anticipated levels of impact. Please note that the scoping period will close on October 19, 2013. This is not your only public input opportunity; please refer to the Environmental Review Process flow chart Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Comments may be submitted in written form or verbally. Further details on how to submit written comments are in the Public Participation section of this notice. In lieu of, or in addition to sending written comments, you are invited to attend the public scoping meetings listed below.

Date and time | Location
Wednesday, October 2, 2013, 7:00 pm | VFW Post 4759, 4402 LA Highway 12, Starks, LA 70661, (337) 743-6409.
Thursday, October 3, 2013, 7:00 pm | Sabine Pass ISD, (Auditorium), 5641 South Gulfway Drive, Sabine Pass, TX 77655, (409) 971-2321.

Golden Pass representatives will be present one hour before each meeting to answer questions.

This notice is being sent to the Commission's current environmental mailing list for this Project. State and local government officials are asked to notify their constituents of this planned project and encourage them to comment on their areas of concern.

If you are a landowner receiving this notice, a company representative may contact you about the acquisition of an easement to construct, operate, and maintain the planned facilities. The company would seek to negotiate a mutually acceptable agreement. However, if the Commission approves the Project, that approval conveys with it the right of eminent domain. Therefore, if easement negotiations fail to produce an agreement, Golden Pass could initiate condemnation proceedings where compensation would be determined in accordance with state law.

A fact sheet prepared by the FERC entitled “An Interstate Natural Gas Facility on My Land? What Do I Need to Know?” is available for viewing on the FERC Web site (www.ferc.gov). This fact sheet addresses a number of typically asked questions, including the use of eminent domain and how to participate in the Commission's proceedings.

Involvement of the U.S. Department of Energy

The FERC is the lead federal agency in preparing the EA to satisfy the requirements of the National Environmental Policy Act (NEPA). The U.S. Department of Energy (DOE), Office of Fossil Energy, has agreed to participate as a cooperating agency in the preparation of the EA to satisfy its NEPA responsibilities.

Under section 3 of the Natural Gas Act of 1938, as amended (NGA), 15 U.S.C. 717b, DOE would authorize applications to export natural gas, including LNG, to countries with which the United States has not entered into a free trade agreement providing for national treatment for trade in natural gas, unless it finds that the proposed export would not be consistent with the public interest. For the Project, the purpose and need for DOE action is to respond to Golden Pass' application filed with DOE on October 26, 2012 (FE Docket No. 12-156-LNG), seeking authorization to export up to 15.6 million metric tons per annum (MTPA), which is equivalent to 740 billion standard cubic feet per year, of domestic natural gas as LNG for a 25-year period from the Golden Pass facilities in Jefferson County, Texas, commencing the earlier of the date of first export or seven years from the date that the requested authorization is issued. DOE authorization of Golden Pass' application would allow the export of LNG to any country: (1) With which the United States does not have a free trade agreement requiring the national treatment for trade in natural gas; (2) that has, or in the future develops, the capacity to import LNG via ocean-going carrier; and (3) with which trade is not prohibited by U.S. law or policy.

Summary of the Planned Project

Golden Pass plans to develop its existing LNG terminal in Jefferson County, Texas to enable the terminal to liquefy natural gas and export the LNG. The existing Golden Pass Pipeline extends from the terminal through Jefferson, Orange, and Newton Counties, Texas into Calcasieu Parish, Louisiana; Golden Pass plans to add approximately 8 miles of pipeline loop.² The general locations of the planned pipeline and LNG export terminal are depicted in the figure included as Appendix 2.³

² A pipeline loop is constructed parallel to an existing pipeline to increase capacity.

³ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

The Golden Pass LNG Export Project would include construction and operation of the following facilities:

• Three liquefaction trains;

• a 200-250 megawatt self-generation power plant;

• modifications to marine and truck loading facilities;

• approximately 8 miles of 30- to 36-inch-diameter pipeline in two non-contiguous loops, connecting to existing pipelines in Jefferson County, Texas and Calcasieu Parish, Louisiana;

• up to four compressor stations providing 100,000 total horsepower to provide bi-directional flow capability to the existing Golden Pass Pipeline in Jefferson and Orange Counties, Texas and Calcasieu Parish, Louisiana; and

• support facilities, such as buildings for maintenance and storage.

Golden Pass plans to begin Project construction in mid-2015 if all required permits, certificates, and authorizations are obtained.

Land Requirements for Construction

Golden Pass is still in the planning phase for the project, and workspace requirements have not been finalized. The export LNG facilities would be within the existing terminal site and most of the planned pipeline route parallels existing pipeline, utility, or road rights-of-way. The planned pipeline construction would impact approximately 200 acres of land temporarily and 75 acres permanently and the construction of compressor stations would impact 60 acres temporarily and 30 acres permanently.

The EA Process

The NEPA requires the Commission to take into account the environmental impacts that could result from an action whenever it considers the issuance of a Certificate of Public Convenience and Necessity. NEPA also requires us ⁴ to discover and address concerns the public may have about proposals. This process is referred to as scoping. The main goal of the scoping process is to focus the analysis in the EA on the important environmental issues. By this notice, the Commission requests public comments on the scope of the issues to address in the EA. All comments received will be considered during the preparation of the EA.

⁴ “Us,” “we,” and “our” refer to the environmental staff of the Commission's Office of Energy Projects.

In the EA we will discuss impacts that could occur as a result of the construction and operation of the planned Project under these general headings:

• Geology and soils;

• water resources;

• wetlands and vegetation;

• fish and wildlife;

• threatened and endangered species;

• land use, recreation, and visual resources;

• air quality and noise;

• cultural resources;

• socioeconomics;

• reliability and safety;

• engineering and design material; and

• cumulative environmental impacts.

We will also evaluate possible alternatives to the planned Project or portions of the Project, including the no action alternative, and make recommendations on how to minimize or avoid impacts on affected resources.

Although no formal application has been filed, we have already initiated our NEPA review under the Commission's Pre-filing Process. The purpose of the Pre-filing Process is to encourage early involvement of interested stakeholders and to identify and resolve issues before an application is filed with the FERC. As part of our pre-filing review, we have begun to contact some federal and state agencies to discuss their involvement in the scoping process and the preparation of the EA. In addition, representatives from FERC participated in the public open houses sponsored by Golden Pass in the Project area in July and August 2013 to explain the environmental review process to interested stakeholders.

Our independent analysis of the issues will be presented in the EA. If the Commission staff determines the preparation of an EA is appropriate, the EA will be placed in the public record and be published and distributed to the public. A comment period will be allotted when the EA is noticed. We will consider all comments on the EA before we make our recommendations to the Commission. To ensure your comments are considered, please carefully follow the instructions in the Public Participation section beginning on page 6.

With this notice, we are asking agencies with jurisdiction by law and/or special expertise with respect to the environmental issues related to this Project to formally cooperate with us in the preparation of the environmental document.⁵ Agencies that would like to request cooperating agency status should follow the instructions for filing comments provided under the Public Participation section of this notice. Currently, the Department of Energy, the U.S. Army Corps of Engineers, and the U.S. Department of Transportation Pipeline and Hazardous Materials Safety Administration have expressed their intention to participate as a cooperating agency in the preparation of the environmental document to satisfy its NEPA responsibilities related to these projects.

⁵ The Council on Environmental Quality regulations addressing cooperating agency responsibilities are at 40 CFR 1501.6.

Consultations Under Section 106 of the National Historic Preservation Act

In accordance with the Advisory Council on Historic Preservation's regulations for Section 106 of the National Historic Preservation Act, we are using this notice to initiate consultation with the Texas Historical Commission and the Office of the State of Louisiana Cultural Development, which have been given the roles of the State Historic Preservation Officers (SHPO) for their respective states, and to solicit their views and those of other government agencies, interested Indian tribes, and the public on the Project's potential effects on historic properties.⁶ We will define the Project-specific Area of Potential Effects in consultation with the SHPOs as the Project is further developed. Our environmental document for the Project will document our findings of the impacts on historic properties and summarize the status of consultations under Section 106.

⁶ The Advisory Council on Historic Preservation regulations are at 36 CFR Part 800. Those regulations define historic properties as any prehistoric or historic district, site, building, structure, or object included in or eligible for inclusion in the National Register for Historic Places.

Currently Identified Environmental Issues

We have already identified many issues that we think deserve attention based on a preliminary review of the Project site and facilities and information provided by Golden Pass, comments made to us at Golden Pass' open houses, and preliminary consultations with other agencies. The following preliminary list of issues may be changed based on your comments and our analysis:

• Evaluation of temporary and permanent impacts on wetlands and the development of appropriate mitigation, including flood protection;

• potential impacts on fish and wildlife habitat, including potential impacts on federally and state-listed threatened and endangered species;

• potential visual effects of the aboveground facilities on surrounding areas;

• potential impacts and potential benefits of construction workforce on local housing, infrastructure, public services, and economy;

• impacts on air quality and noise associated with construction and operation of the Project; and

• public safety and hazards associated with the transport of natural gas and LNG.

Public Participation

You can make a difference by providing us with your specific comments or concerns about the Project. Your comments should focus on the potential environmental effects, reasonable alternatives, and measures to avoid or minimize environmental impacts. The more specific your comments, the more useful they will be. To ensure that your comments are timely and properly recorded, please send your comments so the Commission receives them in Washington, DC on or before October 19, 2013.

For your convenience, there are three methods you can use to submit your comments to the Commission. In all instances, please reference the Project docket number (PF13-14-000) with your submission. The Commission encourages electronic filing of comments and has expert staff available to assist you at (202) 502-8258 or efiling@ferc.gov.

1. You can file your comments electronically using the eComment feature located on the Commission's Web site (www.ferc.gov) under the link to Documents and Filings. This is an easy method for interested persons to submit brief, text-only comments on a project;

2. You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

3. You can attend and provide either oral or written comments at a public scoping meeting. A transcript of each meeting will be made so that your comments will be accurately recorded and included in the public record; or

4. You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

When an EA is published for distribution, copies will be sent to the environmental mailing list for public review and comment. If you would prefer to receive a paper copy of the document instead of the CD version, or would like to remove your name from the mailing list, please return the attached Information Request (Appendix 3).

Becoming an Intervenor

Once Golden Pass files its applications with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until a formal application for the Project is filed with the Commission.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF13-14). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of filings, document summaries, and direct links to the documents. Go to www.ferc.gov/esubscribenow.htm.

Public meetings or site visits will be posted on the Commission's calendar located at www.ferc.gov/EventCalendar/EventsList.aspx along with other related information.

Finally, Golden Pass has established a Web site for the Project at http://goldenpassproducts.com/index.cfm/page/8. The Web site includes a description of the Project, permitting schedules and calendars, frequently asked questions and responses, and links to related press releases and news articles. You can also request additional information directly from Golden Pass at (877) 246-4728 or info@goldenpassproducts.com.

Dated: September 19, 2013.
Kimberly D. Bose,
Secretary.

[FR Doc. 2013-24466 Filed 10-15-13; 8:45 am]

BILLING CODE 6717-01-P